DEPARTMENT OF JUSTICE

Antitrust Division

Notice Pursuant to the National Cooperative Research and Production Act of 1993—ODVA, Inc.

Notice is hereby given that, on December 8, 2023, pursuant to section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, EN2CORE Technology Inc., Yuseong-gu, SOUTH KOREA; Binarix Corporation, Tokyo, JAPAN; VWR International, LLC, Radnor, PA; Doosan Robotics Inc., Gyeonggi-do, SOUTH KOREA; RT-Labs AB, Göteborg, SWEDEN; STROKMATIC AUTOMAÇÃO INDUSTRIAL LTDA, Joinville, BRAZIL; PSTEK Co., Ltd, Gyeonggi-do, SOUTH KOREA; UGL Engineering Pty Limited, North Sydney, AUSTRALIA; LEWCO Inc., Sandusky, OH; Schaeffler Monitoring Services GmbH, Herzogenrath, GERMANY; and Veo Robotics, Inc., Waltham, MA, have been added as parties to this venture.

Also, TRIDIMEO, Villebon-Sur-Yvette, FRANCE; and Perle Systems Limited, Markham, Ontario, CANADA, have withdrawn as parties to this venture.

Additionally, I-CON Industry Tech, JiaXing, ZheJiang, PEOPLE'S REPUBLIC OF CHINA, has been removed as a party to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on August 29, 2023. A notice was published in the Federal Register pursuant to section 6(b) of the Act on October 6, 2023 (88 FR 69671).

Suzanne Morris,
Deputy Director Civil Enforcement Operations, Antitrust Division.

[FR Doc. 2024-02224 Filed 2-2-24; 8:45 am]

BILLING CODE P